ENVIRONMENTAL PROTECTION AGENCY

[ER-FRL-6637-6]

Environmental Impact Statements; Notice of Availability

AGENCY: Office of Federal Activities, General Information (202) 564-7167 or http://www.epa.gov/compliance/nepa/. Weekly receipt of Environmental Impact Statements, filed February 3, 2003, through February 7, 2003, pursuant to 40 CFR 1506.9.

EIS No. 030049, Draft EIS, NPS, OH, Cuyahoga Valley National Park Rural Landscape Management Program, Rural Landscape Resources Preservation and Protection, Cuyahoga River, Cuyahoga and Summit Counties, OH, comment period ends: March 31, 2003, contact: John P. Debo (440) 546-5903.

EIS No. 030050, Draft Supplement, NPS, KY, TN, Big South Fork National River and Recreation Area, General Management Plan, implementation, additional information concerning resources, roads and trails, McCreary, KY and Fentress, Morgan, Pickett, and Scott Counties, TN, comment period ends: May 15, 2003, contact: Reed Detring (423) 569-9778.

EIS No. 030051, Final EIS, MMS, AK, Beaufort Sea Planning Area multiple sale 186, 195 and 202 oil and gas lease sales, Alaska Outer Continental Shelf, Offshore Marine Environment, Beaufort Sea Coastal Plain, and the North Slope Borough of Alaska, wait period ends: March 17, 2003, contact: George Valiulis (703) 787-1662.

EIS No. 030052, Final EIS, FHW, IA, Avenue G viaduct and connecting corridor, access improvement for local emergency services and safety through expanded capacity across the trail corridor, funding and NPDES permit, Pottawattamie County, IA, wait period ends: March 17, 2003, contact: Bobby Blackmon (515) 233-7300.

EIS No. 030053, Draft EIS, BLM, WY, Snake River Resource Management Plan, BLM-administrated public land and resources allocation and management, Snake River, Jackson Hole, Teton Counties, WY, comment period ends: May 15, 2003, contact: Joe Patti (307) 775-6101.

EIS No. 030055, Draft EIS, FHW, TX, Grand Parkway/TX-99 Improvement Project, IH-10 to U.S. 290, funding, right-of-way grant and U.S. Army COE section 404 permit issuance, Harris County, comment period ends: May 23, 2003, contact: John Mack (512) 536-5960.

EIS No. 030056, Draft EIS, AFS, FL, USDA Forest Service and State of Florida Land Exchange Project, assembled exchange of both fee, ownership parcels and partial interest parcels, Baker, Citrus, Franklin, Hernando, Lake, Liberty, Okaloosa, Osceola, Santa Rosa and Sumter Counties, FL, comment period ends: March 31, 2003, contact: Gary Hegg (850) 926-3561.

Dated: February 11, 2003.
Joseph C. Montgomery,
Director, NEPA Compliance Division, Office of Federal Activities.

[FR Doc. 03-3693 Filed 2-13-03; 8:45 am]

BILLING CODE 6560-50-P